DEPARTMENT OF HOUSING AND URBAN DEVELOPMENT

[Docket No. FR-5191-N-11]

Notice of Proposed Information Collection: Comment Request; Certification of Multifamily Housing Compliance With State and Local Housing Codes

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: June 27, 2008.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone (202) 402-8048.

FOR FURTHER INFORMATION CONTACT: Angie Scott Hamilton, Office of Asset Management, Department of Housing and Urban Development, 451 7th Street, SW., Room 6180, Washington, DC 20410, telephone number (202) 402-2601 (this is not a toll-free number).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Purchaser's Certification of Compliance with State and Local Housing Laws and Requirements.

OMB Control Number, if applicable: 2502-0559.

Description of the need for the information and proposed use: This information collection will be used by HUD to ensure that all projects owned by potential purchasers are in compliance with state and local housing codes in the same locality of the HUD-owned project to be purchased.

Agency form numbers, if applicable: HUD-9840.

Estimation of the total numbers of hours needed to prepare the information collection including number of respondents, frequency of response, and hours of response: The total number of respondents is estimated to be 14,758; the frequency of responses is 1; the estimated number of responses is 10; the estimated time to prepare form is approximately 15 minutes per response, and the total annual burden hours requested is approximately 3 hours.

Status of the proposed information collection: This is an extension of an already approved collection.

Authority: The Paperwork Reduction Act of 1995, 44 U.S.C., Chapter 35, as amended.

Dated: April 18, 2008.
Frank L. Davis,
General Deputy Assistant Secretary for Housing—Deputy Federal Housing Commissioner.

[FR Doc. E8-9131 Filed 4-25-08; 8:45 am]

BILLING CODE 4210-67-P